DEPARTMENT OF TRANSPORTATION

Federal Highway Administration

Environmental Impact Statement: Lehigh and Northhampton Counties, Pennsylvania; Cancellation of the Notice

AGENCY: Federal Highway Administration (FHWA), DOT.

ACTION: Cancellation of the notice of intent.

SUMMARY: This notice rescinds the previous Notice of Intent (issued May 8, 2000) to prepare an Environmental Impact Statement for a proposed highway project along U.S. Route 22 between its interchanges with Interstate 78 to the west and State Route 248 to the east, a distance of approximately 31 km (19 miles).

FOR FURTHER INFORMATION CONTACT: David W. Cough, P.E., Director of Operations, Federal Highway Administration, Pennsylvania Division Office, 228 Walnut Street, Room 508, Harrisburg, PA 17101-1720, Telephone (717) 221-3411—OR—Donald Lerch, Assistant District Engineer, Pennsylvania Department of Transportation, District 5-0, 1713 Lehigh Street, Allentown, PA 18103, Telephone (610) 798-4131.

SUPPLEMENTARY INFORMATION: Additional traffic analyses have indicated that the proposed project consists of distinct sections based on traffic patterns, origins and destinations, safety and capacity needs. Environmental Assessments of Categorical Exclusion Evaluations will be prepared for each section, as appropriate, based on project scoping.

(Catalog of Federal Domestic Assistance Program Number 20.205, Highway Planning and Construction. The regulations implementing Executive Order 12372 regarding intergovernmental consultation on Federal Programs and activities apply to this program.)

James A. Cheatham,
FHWA Division Administator, Harrisburg, PA.

[FR Doc. 02-1544 Filed 1-17-02; 8:45 am]

BILLING CODE 4910-22-M